DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

Applicant: Richard M. Sanders, Jamaica, NY, PRT-028558

The applicant requests a permit to import the sport-hunted trophy of one male bontebok (Damaliscus pygargus dorcas) culled from a captive herd maintained under the management program of the Republic of South Africa, for the purpose of enhancement of the survival of the species.

Applicant: Kenneth B. Wallace, Gig Harbor, WA, PRT-028557

The applicant requests a permit to import the sport-hunted trophy of one male bontebok (Damaliscus pygargus dorcas) culled from a captive herd maintained under the management program of the Republic of South Africa, for the purpose of enhancement of the survival of the species.

Applicant: Gary Johnson, Perris, CA, PRT-028099

The applicant requests a permit to export and re-import a captive born Asian elephant (Elephas maximus) and progeny of the animals currently held by the applicant and any animals acquired in the United States by the applicant to/from worldwide locations to enhance the survival of the species through conservation education. This notification covers activities conducted by the applicant over a three year period.

Marine Mammal

Applicant: John Christian Joseph Wirth, Jr., Dubois, WY PRT-028340

The applicant requests a permit to import a polar bear (Ursus maritimus) sport-hunted from the Lancaster Sound polar bear population, Northwest Territories, Canada for personal use.

Applicant: Felix G. Widlacki, Orland Park, IL, PRT-028560

The applicant requests a permit to import a polar bear (Ursus maritimus) sport-hunted from the Norwegian Bay polar bear population, Nanavut, Canada for personal use.

Applicant: Douglas L. Bell, Michigan City, IN, PRT-028561

The applicant requests a permit to import a polar bear (Ursus maritimus) sport-hunted from the Southern Beaufort Sea polar bear population, Northwest Territories, Canada for personal use.

Applicant: Michael R. Koenig, Sheboygan, WI, PRT-028562

The applicant requests a permit to import a polar bear (Ursus maritimus) sport-hunted from the Southern Beaufort Sea polar bear population, Northwest Territories, Canada for personal use.

Applicant: Robert McCreary, Newaygo, MI, PRT-028559

The applicant requests a permit to import a polar bear (Ursus maritimus) sport-hunted from the Southern Beafort Sea polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: June 9, 2000.
Charlie Chandler,
Chief, Branch of Permits, Office of Management Authority.

[FR Doc. 00-15103 Filed 6-14-00; 8:45 am]

BILLING CODE 4310-55-P